DEPARTMENT OF DEFENSE

Office of the Secretary

[Docket ID: DOD-2016-OS-0013]

Privacy Act of 1974; System of Records

AGENCY: Defense Threat Reduction Agency, DoD.

ACTION: Notice to add a new System of Records.

SUMMARY: The Defense Threat Reduction Agency proposes to add a new system of records, HDTRA 028, entitled “AtHoc Emergency Mass-Notification System” will be used to notify the workforce quickly with information in times of emergency (snow, fire, hurricane or other unforeseen situations that cause the Fort Belvoir/McNamara Complex to be closed).

DATES: Comments will be accepted on or before March 25, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: LaTonya L. Small, Ed.D, Chief Freedom of Information/Privacy Act Office, 8725 John J. Kingman Road, Fort Belvoir, VA 22060, 703-767-1792.

SUPPLEMENTARY INFORMATION: The Defense Threat Reduction Agency's notices for systems of records subject to the Privacy Act of 1974 (5 U.S.C. 552a (r)), as amended, have been published in the Federal Register and are available from the address in the FOR FURTHER INFORMATION CONTACT or from the Defense Privacy and Civil Liberties Division Web site at http://dpcld.defense.gov/.

The proposed systems reports, as required by 5 U.S.C. 552a(r) of the Privacy Act of 1974, as amended, were submitted on February 16, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 19, 2016.
Aaron Siegel,
Alternate OSD Federal Register Liaison Officer, Department of Defense.

HDTRA 028

System name:

AtHoc Emergency Mass-Notification System

System location:

Defense Threat Reduction Agency/USSTRATCOM Center for Combating Weapons of Mass Destruction, 8725 John J. Kingman Road, Fort Belvoir, VA 22060-6201.

Secondary location:

Albuquerque Operations, Defense Threat Reduction Agency, 1680 Texas Street SE., Kirtland Air Force Base, Albuquerque, NM 87117-5669.

Categories of individuals covered by the system:

Defense Threat Reduction Agency/USSTRATCOM Center for Combating Weapons of Mass Destruction (DTRA/SCC-WMD) civilian employees, military personnel, and on-site contractors.

Categories of records in the system:

Individual's first name, last name, work email, work phone number, mobile phone number, short message service (SMS) (texting), telephone typewriter, teletypewriter or text phone/Telecommunications Device for the Deaf (TTY/TTD), personal email, home phone, and pager (one or two-way).

Authority for maintenance of the system:

5 U.S.C. 301, Departmental Regulations; 10 U.S.C. 136, Under Secretary of Defense for Personnel and Readiness; DoD Directive 5124.02, Under Secretary of Defense for Personnel and Readiness (USD(P&R); DoD Instruction 3020.42, Defense Continuity Plan Development; DoD Instruction 3020.52, DoD Installation Chemical, Biological, Radiological, Nuclear, and High-Yield Explosive (CBRNE) Preparedness Standards; and DoD Instruction 6055.17, DoD Installation Emergency Management (IEM) Program.

Purpose(s):

To notify the workforce quickly with information in times of emergency (snow, fire, hurricane or other unforeseen situations that cause the Fort Belvoir/McNamara Complex to be closed).

Routine uses of records maintained in the system, including categories of users and the purposes of such uses:

In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the Office of the Secretary of Defense (OSD) compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Electronic storage media.

Retrievability:

First and last name of employee or individual.

Safeguards:

Records are maintained in a controlled facility. Records are accessible only to authorized persons with a need-to-know who are properly screened, cleared, and trained. The system will maintain a role based access, Government Common Access Card (CAC) and associated Personal Identification Number (PIN) in addition to user identification and password for system access.

Retention and disposal:

Disposition pending until the National Archives and Records Administration approve retention and disposal schedule, records will be treated as permanent.

System manager(s) and address:

Operations Integration Branch Chief, Defense Threat Reduction Agency/USSTRACTOM Center for Combating Weapons of Mass Destruction, 8725 John J. Kingman Road, Fort Belvoir, VA 22060-6201.

Notification procedures:

Individuals seeking to determine whether information about themselves is contained in this system of records should address written inquiries to the DTRA/SCC-WMD, Chief, Freedom of Information/Privacy Act Office, 8725 John J. Kingman Road, Fort Belvoir, VA 22060-6201.

For verification purposes, individual should provide their full name, dates and locations they were employed or assigned to DTRA/SCC-WMD, and any details which may assist in locating records. In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Record access procedures:

Individuals seeking access to information about themselves contained in this system of records should address written inquiries to the DTRA/SCC-WMD, Chief, Freedom of Information/Privacy Act Office, 8725 John J. Kingman Road, Fort Belvoir, VA 22060-6201.

For verification purposes, individual should provide their full name, dates and locations they were employed or assigned to DTRA/SCC-WMD, and any details which may assist in locating records. In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Contesting record procedures:

The Defense Threat Reduction Agency/USSTRATCOM Center for Combating Weapons of Mass Destruction rules for accessing records, for contesting contents, and appealing initial agency determinations are published in 32 CFR part 318.10 or may be obtained from the Chief, Freedom of Information/Privacy Act Office.

Record source categories:

From the individual.

Exemptions claimed for the system:

None.

[FR Doc. 2016-03871 Filed 2-23-16; 8:45 am]

BILLING CODE 5001-06-P